DEPARTMENT OF TRANSPORTATION

Federal Aviation Administration

14 CFR Part 71

[Docket No. FAA-2003-15460; Airspace Docket No. 03-ACE-58]

Modification of Class E Airspace; Aurora, MO

AGENCY: Federal Aviation Administration (FAA), DOT.

ACTION: Direct final rule; correction.

SUMMARY: This action corrects a direct final rule; request for comments that was published in the Federal Register on Tuesday, July 29, 2003, (68 FR 44454) [FR Doc. 03-19165]. It corrects an error in the spelling of the name of the airport at Aurora, MO.

DATES: This direct final rule is effective on 0901 UTC, October 30, 2003.

FOR FURTHER INFORMATION CONTACT: Brenda Mumper, Air Traffic Division Airspace Branch, ACE-520A, DOT Regional Headquarters Building, Federal Aviation Administration, 901 Locust, Kansas City, MO 64106; telephone: (816) 329-2524.

SUPPLEMENTARY INFORMATION:

History

Federal Register Document 03-19165, published on Tuesday, July 29, 2003, (68 FR 44454) modified Class E airspace at Aurora, MO. The modification was to replace “Aurora Memorial Municipal Airport” in the legal descriptions of Aurora, MO Class E airspace area with “Jerry Summers Sr. Aurora Municipal Airport” and to bring the legal description into compliance with FAA Order 7400.2E, Procedures for Handling Airspace Matters. A correction to this direct final rule; request for comments and the direct final rule; confirmation of effective date were subsequently published in the Federal Register on Monday, August 18, 2003, (68 FR 49350) [FR Doc. 03-21078] and Friday, September 12, 2003, (68 FR 53676) [FR Doc. 03-23300] respectively. On Friday, September 23, 2003, the National Flight Data Digest revised the name of the Aurora, MO airport from “Jerry Summers Sr. Aurora Municipal Airport” to “Jerry Sumners Sr. Aurora Municipal Airport.”

Accordingly, pursuant to the authority delegated to me, the Aurora, MO Class E airspace, as published in the Federal Register on Tuesday, July 29, 2003, (68 FR 44454), [FR Doc. 03-19165] is corrected as follows:

§ 71.1 [Corrected]

On page 44455, Column 3, paragraph headed “ACE MO E Aurora, MO,” first, sixth and ninth lines, change “Summers” to read “Sumners.”

Issued in Kansas City, MO, on October 1, 2003.
Herman J. Lyons,
Manager, Air Traffic Division, Central Region.

[FR Doc. 03-25956 Filed 10-10-03; 8:45 am]

BILLING CODE 4910-13-M